DEPARTMENT OF JUSTICE

Notice of Lodging of Consent Decree; Under the Resource Conservation and Recovery Act (“RCRA”) and the Clean Water Act

Pursuant to 28 CFR 50.7 and RCRA Section 7003, 42 U.S.C. 6973, notice is hereby given that on April 8, 2005, a Consent Decree with Edwards Oil Service, Inc., was lodged with the United States District Court for the Eastern district of Michigan in the matter of United States v. Edwards Oil Service, Inc., Civil No. 05-71379 (E.D. Mich.).

In that action the United States seeks to recover from the Defendant pursuant to Section 3008(a) of the Solid Waste Disposal Act, commonly known as the Resource Conservation and Recovery Act of 1976, as amended (“RCRA”), 42 U.S.C. 6928(a), and Section 311(e) of the Federal Water Pollution Control Act, commonly known as the Clean Water Act (“CWA”), 33 U.S.C. 1321(e), as amended by the Oil Pollution Act of 1990, 33 U.S.C. 2701 et seq., injunctive relief and civil penalties for the Defendant's alleged violations of RCRA, CWA and various federal and state regulations promulgated thereunder at the Defendant's used oil and hazardous waste treatment facility in Detroit, Wayne County, Michigan.

Under the proposed Consent Decree, Defendant Edwards Oil Service would undertake various injunctive measures and pay a civil penalty of $11,000.

The Department of Justice will receive for a period of thirty (30) days from the date of this publication comments relating to the Consent Decree. In accordance with RCRA Section 7003(d), 42 U.S.C. 6973(d), commentors also may request an opportunity for a public meeting in the affected area to discuss the proposed covenants not to sue under RCRA Section 7003, 42 U.S.C. 6973.

All comments, and/or requests for a public meeting under RCRA Section 7003(d) should refer to United States v. Edwards Oil Service, Inc., Civil No. 05-71379 (E.D. Mich.) and DOJ Reference No. 90-7-1-06968.

The Consent Decree may be examined at the Office of the United States Attorney, Eastern District of Michigan, 211 W. Fort Street, Detroit, Michigan 48226-3211; and at EPA Region 5, 77 W. Jackson Blvd., Chicago, Illinois 60604 (contact Richard Murawski, Esq. (312) 886-6721). During the public comment period, the Consent Decree may also be examined on the following Department of Justice Web site: http//www.usdoj.gov/enrd/open.html.

A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to United States v. Edwards Oil Service, Inc., Civil No. 05-71379 (E.D. Mich.) and DOJ Reference No. 90-7-1-06968, and enclose a check in the amount of $6.50 (25 cents per page reproduction cost) payable to the U.S. Treasury.

William Brighton,
Assistant Section Chief, Environmental Enforcement Section, Environment and Natural Resources Division.

[FR Doc. 05-7930 Filed 4-14-05; 8:45 am]

BILLING CODE 4410-15-M